ENVIRONMENTAL PROTECTION AGENCY

[EPA-HQ-OEJECR-2024-0048; FRL-11592-01-OCFO]

Agency Information Collection Activities; Proposed Information Collection Request; Comment Request; Promoting Readiness and Enhancing Proficiency To Advance Reporting and Data (PREPARED) Program: Post-Award Reporting and Public Outreach Information Collections

AGENCY: Environmental Protection Agency (EPA).

ACTION: Notice.

SUMMARY: The Environmental Protection Agency (EPA) is planning to submit an information collection request (ICR), Promoting Readiness and Enhancing Proficiency to Advance Reporting and Data (PREPARED) Program: Post-Award Reporting and Public Outreach Information Collections (EPA ICR Number 2804.01, OMB Control Number 2090-NEW) to the Office of Management and Budget (OMB) for review and approval in accordance with the Paperwork Reduction Act. Before doing so, EPA is soliciting public comments on specific aspects of the proposed information collection as described below. This is a request for approval of a new collection. This document allows 60 days for public comments.

DATES: Comments must be submitted on or before April 22, 2024.

ADDRESSES: Submit your comments, referencing Docket ID Number EPA-HQ-OEJECR-2024-0048, to EPA online using https://www.regulations.gov (our preferred method), by email to Docket_OCFO@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

FOR FURTHER INFORMATION CONTACT: Alex Valdez, Office of the Chief Financial Officer, Environmental Protection Agency, 1200 Pennsylvania Ave. NW, Washington, DC 20460; email address: valdez.alex@epa.gov; telephone number: 202-564-1746.

SUPPLEMENTARY INFORMATION: This is a request for approval of a new collection. An agency may not conduct or sponsor and a person is not required to respond to a collection of information unless it displays a currently valid OMB control number.

This document allows 60 days for public comments. Supporting documents, which explain in detail the information that the EPA will be collecting, are available in the public docket for this ICR. The docket can be viewed online at https://www.regulations.gov or in person at the EPA Docket Center, WJC West, Room 3334, 1301 Constitution Ave. NW, Washington, DC. The telephone number for the Docket Center is 202-566-1744. For additional information about EPA's public docket, visit https://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate forms of information technology. EPA will consider the comments received and amend the ICR as appropriate. The final ICR package will then be submitted to OMB for review and approval. At that time, EPA will issue another Federal Register document to announce the submission of the ICR to OMB and the opportunity to submit additional comments to OMB.

Abstract: To help expand historically underserved and overburdened communities' access to critical resources, the U.S. Environmental Protection Agency (EPA) developed the Promoting Readiness and Enhancing Proficiency to Advance Reporting and Data (PREPARED) Program. The evidence-building technical assistance (TA) providers (thereafter referenced as Providers) will operate in cooperative agreements with EPA to remove barriers and improve access for communities who have applied for or received financial assistance awards to tackle their environmental justice concerns. The Providers will deliver TA and training that is intended to enhance capacity in: grant application and administration, collecting grant related data; meeting federal post-award reporting requirements; project planning/design; and generating information necessary for outcomes assessment, evaluation, and identification of opportunities for improvement. With this Information Collection Request (ICR), EPA seeks authorization to collect post-award information from each Provider to track their progress. Collection of this information enables EPA to assess and manage the PREPARED Program, which ensures responsible stewardship of public funds; rigorous evidence-based learning and improvement; and transparent accountability to the American public. This ICR also requests authorization for the Providers to collect input and insights from communities who seek to obtain technical assistance services, as well as stakeholders who have valuable experience and expertise in community engagement and empowerment. These information collections will enable the Providers to document local priorities, needs, and norms to ensure that they develop useful and relevant technical assistance and training services. Furthermore, feedback about these services will enable the Providers to conduct self-assessments to identify best practices and areas for improvement.

Form numbers: None.

Respondents/affected entities: To be determined.

Respondent's obligation to respond: Mandatory for grant recipients as per reporting requirements included in EPA regulations 2 CFR parts 200 and 1500, and voluntary for public outreach information collections via surveys and focus groups.

Estimated number of respondents: Up to 4 grant recipients and approximately 4,800 respondents (over 3 years) to Public Outreach Information Collections.

Frequency of response: Grant recipients will submit one workplan each before beginning their project. Progress reports are expected quarterly for three years. A final report is required no later than 120 days after project completion. Public outreach information collections (via surveys and focus groups) will occur throughout the life of the PREPARED project.

Total estimated burden: The estimated burden for grant recipients is estimated at 362 hours over 3 years. The estimated burden for public outreach information collections is estimated at 2,210 hours over 3 years.

Total estimated cost: The estimated cost for grant recipients is estimated at $39,820 over 3 years. The estimated cost for public outreach information collections is estimated at $75,227 over 3 years.

Katherine Dawes,
EPA Evaluation Officer, Office of the Chief Financial Officer.

[FR Doc. 2024-03614 Filed 2-21-24; 8:45 am]

BILLING CODE 6560-50-P